ENVIRONMENTAL PROTECTION AGENCY

[FRL-7048-4]

Agency Information Collection Activities: Submission for OMB Review; Comment Request, National Emissions Standards for Hazardous Air Pollutants (NESHAP) From Petroleum Refineries

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: 40 CFR part 63, subpart CC—National Emissions Standards for Hazardous Air Pollutants from Petroleum Refineries; OMB Control Number (2060-0340); expiration date August 31, 2001. The ICR describes the nature of the information collection and its expected burden and cost; where appropriate, it includes the actual data collection instrument.

DATES: Comments must be submitted on or before October 9, 2001.

ADDRESSES: Send comments, referencing EPA ICR No. 1692.04 and OMB No. 2060-0340, to the following addresses: Susan Auby, U.S. Environmental Protection Agency, Collection Strategies Division (Mail Code 2822), 1200 Pennsylvania Avenue, NW., Washington, DC 20460-0001; and the Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by email at auby.susan@epamail.epa.gov, or download off the Internet at http://www.epa.gov/icr and refer to EPA ICR No.1692.04. For technical questions about the ICR contact Dan Chadwick at (202) 564-7054.

SUPPLEMENTARY INFORMATION: Title: National Emissions Standards for Hazardous Air Pollutants from Petroleum Refineries, 40 CFR part 63, subpart CC; OMB Control Number 2060-0340; EPA ICR Number 1692.04, expiring August 31, 2001. This is an extension of a currently approved collection.

Abstract: The information being requested includes a one-time report of construction, anticipated and actual start-up dates, and physical or operational changes to existing facilities; notification of compliance status reports; periodic reports; and event triggered (e.g., notification of installation of a new control device or reconstruction of an existing control device, notification of an intent to perform a performance test) reports. The periodic reports provide information on monitored control device parameters when they are outside of established ranges and on instances where inspections revealed problems. Records (e.g., parameter monitoring data, records of annual storage vessel inspections) are required to be maintained on-site for a minimum of 5 years.

Effective enforcement of the standards is necessary due to the hazardous nature of benzene (a known human carcinogen) and the other Hazardous Air Pollutants (HAP's) emitted from petroleum refineries. The required records and reports are necessary: (1) To enable EPA to identify new and existing sources subject to the standards, and (2) to assist EPA and State agencies to which enforcement has been delegated in determining compliance with the standards. The EPA uses the reports to identify facilities that may not be in compliance with the standards. Based on reported information, EPA can decide which facilities should be inspected and what records or specific emission sources should be inspected at each facility. The required records also provide an indication as to whether facility personnel are operating and maintaining control equipment properly.

In order to retain effective enforcement of the petroleum refinery NESHAP (sections 112 and 114 of the Clean Air Act) response to this information collection is mandatory. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on September 15, 2000, (65 FR 55955); no comment were received.

Burden Statement: The annual public reporting and recordkeeping burden for this collection of information is estimated to average 1495 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of petroleum refineries.

Estimated Number of Respondents: 157.

Frequency of Response: Semi-annually.

Estimated Total Annual Hour Burden: 469,430 hours.

Estimated Total Annualized Capital and Operating & Maintenance Cost Burden: $542,173.

Send comments on the Agency's need for this information, the accuracy of the provided burden estimates, and any suggested methods for minimizing respondent burden, including through the use of automated collection techniques to the following addresses. Please refer to EPA ICR No.1692.05 and OMB Control No. 2060-0340 in any correspondence.

Dated: August 23, 2001
Oscar Morales,
Director, Collection Strategies Division.

[FR Doc. 01-22371 Filed 9-5-01; 8:45 am]

BILLING CODE 6560-50-P